DEPARTMENT OF THE INTERIOR

Geological Survey

Technology Transfer Act 1986; Notice

AGENCY: U.S. Geological Survey, Interior.

ACTION: Notice of proposed Cooperative Research & Development Agreement (CRADA) negotiations.

SUMMARY: The United States Geological Survey (USGS) is contemplating entering into a Cooperative Research and Development Agreement (CRADA) with Devon Energy Corporation to develop information on coal bed methane resources in North Central Louisiana.

Inquiries: If any other parties are interested in similar activities with the USGS, please contact Peter Warwick, 12201 Sunrise Valley Drive, MS 956, Reston, VA 21092, phone: (703) 648-6469.

SUPPLEMENTARY INFORMATION: This notice is submitted to meet the USGS policy requirements stipulated in Survey Manual Chapter 500.20.

December 5, 2001.
P. Patrick Leahy,
Associate Director for Geology.

[FR Doc. 01-32067 Filed 12-28-01; 8:45 am]

BILLING CODE 4310-Y7-M